DEPARTMENT OF THE INTERIOR

National Park Service

National Register of Historic Places; Notification of Pending Nominations

Nominations for the following properties being considered for listing in the National Register were received by the National Park Service before April 21, 2001. Pursuant to § 60.13 of 36 CFR Part 60 written comments concerning the significance of these properties under the National Register criteria for evaluation may be forwarded to the National Register, National Park Service, 1849 C St. NW., NC400, Washington, DC 20240. Written comments should be submitted by May 18, 2001.

Carol D. Shull,
Keeper of the National Register of Historic Places.

ARIZONA

Maricopa County

Phoenix Indian School Historic District, 300 E. Indian School Rd., Phoenix, 01000521

ARKANSAS

Nevada County

Allen Tire Company and Gas Station, (Arkansas Highway History and Architecture MPS) 228 1st St., SW, Prescott, 01000523

Ouachita County

Harvey's Grocery and Texaco Station, (Arkansas Highway History and Architecture MPS) 3241 AR 24, Camden, 01000524

Union County

Griffin Auto Company Building, (Arkansas Highway History and Architecture MPS) 117 E. Locust St., El Dorado, 01000525

CALIFORNIA

San Francisco County

Camera Obscura, 1096 Point Lobos Ave., San Francisco, 01000522

FLORIDA

Bay County

SS Tarpon (Shipwreck), 7.8 nautical mi. offshore Panama City, Panama City, 01000527

Broward County

SS Copenhagen (shipwreck), Pompano Drop-Off S of Hillsboro Inlet, Pompano Beach, 01000532

Dixie County

City of Hawkinsville (shipwreck), Suwannee R. 100 yds S of Old Town RR trestle, Old Town, 01000533

Escambia County

USS Massachusetts—BB-2 (shipwreck), 1. mi. SSW of Pensacola Pass, Pensacola, 01000528

Miami-Dade County

Half Moon (shipwreck), Outside Bear Cut off Key Biscayne, Miami, 01000531

Monroe County

San Pedro (shipwreck), 1.25 mi. S of Indian Keys, Islamorada, 01000530

Palm Beach County

Old Lucerne Historic Residential District, Roughly along N. Lakeside Dr., N. Palmway St., and N. O St., from Lake Ave. to 7th Ave. N, Lake Worth, 01000526

St. Lucie County

Urca De Luca (shipwreck), 200 yds offshore Jack Island Park, N of Ft. Pierce Inlet, Ft. Pierce, 01000529

GEORGIA

Baker County

Notchaway Baptist Church and Cemetery, Jct. of GA 91 amd GA 253, Newton, 01000534

Coweta County

Oak Grove Plantation, 4537 N US 29, Newnan, 01000535

IDAHO

Idaho County

Elk City Wagon Road-Victory Gulch—Smith Grade Segment, Nez Perce National Forest, Elk City, 01000536

KANSAS

Dickinson County

First Presbyterian Church of Abilene, 300 N. Mulberry St., Abilene, 01000540

Hotel Sunflower, 409 NW 3rd St., Abilene, 01000539

St. John's Episcopal Church, 519 N. Buckeye Ave., Abilene, 01000537

United Building, 300 N. Cedar St., Abilene, 01000538

KENTUCKY

Greenup County

General U.S. Grant Bridge, Ohio R.-Chillicothe and Second St., South Portsmouth, 01000560

MASSACHUSETTS

Worcester County

Sutton Center Historic District, Roughly Boston Rd., Singletary Ave., and Uxbridge Rd., Sutton, 01000541

MISSOURI

Boone County

Taylor, John N. and Elizabeth, House, 716 W Broadway, Columbia, 01000546

Callaway County

Robnett—Payne House, 223 E Fifth St., Fulton, 01000543

St. Louis Independent City

Mississippi Valley Trust Company Building, 401 Pine St., St. Louis (Independent City), 01000544

St. Louis Theatre, 718 N. Grand Blvd., St. Louis (Independent City), 01000545

NEW YORK

Cattaraugus County

Bank of Gowanda, 8 W. Main St., Gowanda, 01000553

Erie County

Engine House No. 28, 1170 Lovejoy St., Buffalo, 01000554

New York County

Germania Life Insurance Company Building, 50 Union Sq. E, New York, 01000556

Oswego County

Montcalm Park Historic District, Roughly Montcalm St., W 6th St., W. Schuyler St., and Bronson St., vic. of Montcalm Park, Oswego, 01000555

Queens County

St. Matthew's Episcopal Church, 85-45 96th St., Woodhaven, 01000550

Wyckoff—Snediker Family Cemetery, 85-45 96th St., Woodhaven, 01000549

Rensselaer County

Elmbrook Farm, 2567 Brookview Rd., Schodack, 01000551

Schuyler County

First Presbyterian Church of Hector, 5519 NY 414, Hector, 01000547

Steuben County

St. Ann's Federation Building, 38 Broadway, Hornell, 01000552

Westchester County

Caramoor, 149-181 Girdle Ridge Rd., Bedford, 01000548

NORTH CAROLINA

Dare County

Ballance, Ellsworth and Lovie, House, E side M.V. Australia Ln., 0.1 mi. S of Stowe Landing Rd., Hatteras, 01000558

Wake County

Caraleigh Mills, 421 Maywood Ave., Raleigh, 01000557

OHIO

Hamilton County

Cincinnati and Whitewater Canal Tunnel, Parallel to Miami Ave., jct. of Wamsley and Miami Ave., Cleves, 01000562

Logan County

Schine's Holland Theatre, 125 E. Columbus St., Bellefontaine, 01000561

Scioto County

General U.S. Grant Bridge, Ohio R.-Chillicothe and Second St., Portsmouth, 01000559

Summit County

Copley Depot, 3772 Copley Rd., Copley, 01000563

WISCONSIN

Lafayette County

Mottley Family Farmstead, 21496 Ivey Rd., Willow Springs, 01000564

[FR Doc. 01-11132 Filed 5-2-01; 8:45 am]

BILLING CODE 4310-70-U